JUDICIAL CONFERENCE OF THE UNITED STATES

Hearings of the Judicial Conference Advisory Committees on Rules of Bankruptcy, Civil, and Criminal Procedure, and the Rules of Evidence

AGENCY: Judicial Conference of the United States, Advisory Committees on Rules of Bankruptcy, Civil, and Criminal Procedure, and the Rules of Evidence.

ACTION: Notice of cancellation of four open hearings and extension of one open hearing.

SUMMARY: Four public hearings on proposed rules amendments have been canceled and one public hearing has been extended for a second day. The following public hearings on proposed rules amendments have been canceled:

• Evidence Rules in New Haven, Connecticut, on January 27, 2005;

• Bankruptcy Rules in Washington, DC., on February 3, 2005; and in San Francisco, California, on February 7, 2005; and

• Criminal Rules in Washington, DC., on February 4, 2005.

The following public hearing on proposed rules amendments has been extended for a second day:

• The public hearing on proposed amendments to the Civil Rules, in Washington, DC., has been extended one additional day. The hearings will be held on February 11 and 12, 2005. The hearings on each day will be held at 8:30 a.m., in the Judicial Conference Center of the Thurgood Marshall Federal Judiciary Building, One Columbus Circle, NE.

[Original notice of all five hearings appeared in the Federal Register of September 13, 2004.]

FOR FURTHER INFORMATION CONTACT: John K. Rabiej, Chief, Rules Committee Support Office, Administrative Office of the United States Courts, Washington, DC. 20544, telephone (202) 502-1820.

Dated: January 26, 2005.
John K. Rabiej,
Chief, Rules Committee Support Office.

[FR Doc. 05-1764 Filed 1-13-05; 8:45 am]

BILLING CODE 2210-55-M